DEPARTMENT OF HEALTH AND HUMAN SERVICES

Office of the Secretary

Office of Inspector General

42 CFR Part 1001

RIN 0991-AB09

Medicare and Federal Health Care Programs; Fraud and Abuse; Revisions and Technical Corrections; Correction

AGENCY: Office of Inspector General (OIG), HHS.

ACTION: Final rule; correction amendment.

SUMMARY: This document contains a correction to the final regulations which were published in the Federal Register on March 18, 2002 (67 FR 11928). These regulations set forth several revisions and technical corrections to the OIG regulations pertaining to fraud and abuse in Federal health care programs. A typographical error appeared in the text of the regulations in § 1001.201(b) concerning the amount of financial loss considered as a mitigating factor when excluding an individual or entity convicted under Federal or State law of program or health care fraud. Accordingly, we are correcting § 1001.201(b)(3)(i) to assure the technical correctness of these regulations.

EFFECTIVE DATE: May 1, 2002.

FOR FURTHER INFORMATION CONTACT: Joel Schaer, OIG Regulations Officer, (202) 619-0089.

SUPPLEMENTARY INFORMATION: The HHS Office of Inspector General (OIG) issued final regulations on March 18, 2002 (67 FR 11928) setting forth several revisions and technical corrections to the OIG regulations pertaining to fraud and abuse in Federal health care programs. Among other revisions, to more accurately reflect threshold amounts with respect to exclusion actions, we clarified § 1001.201(b) to reflect as an aggravating and mitigating factor both the actual and intended loss to programs associated with the conduct of the sanctioned individual or entity. In the final regulations, a typographical error appeared in § 1001.201(b)(3)(i), with regard to one of the mitigating factors. Specifically, with respect to the amount of financial loss to a Government program or to other individuals or entities due to the acts that resulted in the conviction and similar acts, the amount appearing on page 11933 of the March 18, 2002 final regulations incorrectly indicated this amount as “**$1,5000**.” This is now being corrected to read as “$1,500.”

List of Subjects 42 CFR Part 1001

Administrative practice and procedure, Fraud, Health facilities, Health professions, Medicaid, Medicare.

Accordingly, 42 CFR 1001 is corrected by making the following correcting amendment.

PART 1001—HEALTHCARE INTEGRITY AND PROTECTION DATA BANK FOR FINAL ADVERSE INFORMATION ON HEALTH CARE PROVIDERS, SUPPLIERS AND PRACTITIONERS

1. The authority citation for part 1001 continues to read as follows:

Authority: 42 U.S.C. 1302, 1320a-7, 1320a-7b, 1395u(h), 1395u(j), 1395u(k), 1395y(d), 1395y(e), 1395cc(b)(2)(D), (E) and (F), and 1395hh; and sec. 2455, Pub.L. 103-355, 108 Stat. 3327 (31 U.S.C. 6101 note).

2. Section 1001.201 is amended by republishing the introductory text for paragraph (b)(3) and revising paragraph (b)(3)(i) to read as follows:

§ 1001.201 Conviction relating to program or health care fraud.

* * * * *

(b) Length of exclusion. * * *

(3) Only the following factors may be considered as mitigating and a basis for reducing the period of exclusion—

(i) The individual or entity was convicted of 3 or fewer offenses, and the entire amount of financial loss (both actual loss and reasonably expected loss) to a Government program or to other individuals or entities due to the acts that resulted in the conviction and similar acts is less than $1,500;

* * * * *

Dated: April 25, 2002.
Ann C. Agnew
Executive Secretary to the Department.

[FR Doc. 02-10789 Filed 4-30-02; 8:45 am]

BILLING CODE 4152-01-P